DEPARTMENT OF TRANSPORTATION

Federal Aviation Administration

14 CFR Part 39

[Docket No. FAA-2008-0100; Directorate Identifier 2007-SW-41-AD; Amendment 39-15356; AD 2008-03-07]

RIN 2120-AA64

Airworthiness Directives; Eurocopter Model AS 332 L2 Helicopters

AGENCY: Federal Aviation Administration (FAA), Department of Transportation (DOT).

ACTION: Final rule; request for comments.

SUMMARY: We are adopting a new airworthiness directive (AD) for Eurocopter Model AS 332 L2 helicopters. This AD results from mandatory continuing airworthiness information (MCAI) originated by an aviation authority to identify and correct an unsafe condition on an aviation product. The European Aviation Safety Agency (EASA), the Technical Agent of France, with which we have a bilateral agreement, states in the MCAI:

A borescope inspection during scheduled maintenance revealed wear on the internal skin of a Life Raft Inflation Cylinder, P/N 41918001, that had been installed on a Eurocopter AS 332 L2 helicopter. The plunger tube end is fitted with a metal end-fitting that presses against the internal surface of the cylinder due to its installation horizontally aboard the aircraft. Vibrations generated by helicopter operation are therefore causing such wear, which may result in a drop of internal pressure of the cylinder. This internal damage, if not corrected, could lead to functional failure of the cylinder, making the life raft inflation no longer possible.

This AD requires actions that are intended to address the failure of a life raft to inflate during an emergency landing on water (ditching), which could result in loss of the crew and passengers.

DATES: This AD becomes effective on February 20, 2008.

The Director of the Federal Register approved the incorporation by reference of Eurocopter Alert Service Bulletin No. 05.00.71, dated July 31, 2007, as of February 20, 2008.

We must receive comments on this AD by April 7, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

Examining the AD Docket: You may examine the AD docket on the Internet at http://www.regulations.gov or in person at the Docket Operations office between 9 a.m. and 5 p.m., Monday through Friday, except Federal holidays. The AD docket contains this AD, the economic evaluation, any comments received, and other information. The street address for the Docket Operations office (telephone (800) 647-5527) is in the ADDRESSES section. Comments will be available in the AD docket shortly after receipt.

FOR FURTHER INFORMATION CONTACT: Uday Garadi, Aviation Safety Engineer, FAA, Rotorcraft Directorate, Regulations and Policy Group, Fort Worth, Texas 76193-0110, telephone (817) 222-5123, fax (817) 222-5961.

SUPPLEMENTARY INFORMATION:

Streamlined Issuance of AD

The FAA is implementing a new process for streamlining the issuance of ADs related to MCAI. This streamlined process will allow us to adopt MCAI safety requirements in a more efficient manner and will reduce safety risks to the public. This process continues to follow all FAA AD issuance processes to meet legal, economic, Administrative Procedure Act, and Federal Register requirements. We also continue to meet our technical decision-making responsibilities to identify and correct unsafe conditions on U.S.-certificated helicopters.

This AD references the MCAI and related service information that we considered in forming the engineering basis to correct the unsafe condition. The AD contains text copied from the MCAI and for this reason might not follow our plain language principles.

Discussion

The European Aviation Safety Agency (EASA), which is the Technical Agent for the Member States of the European Community, has issued EASA AD No. 2007-0244, dated September 4, 2007 (referred to after this as “the MCAI”), to correct an unsafe condition for the specified helicopters. The MCAI states:

A borescope inspection during scheduled maintenance revealed wear on the internal skin of a Life Raft Inflation Cylinder, P/N 41918001, that had been installed on a Eurocopter AS 332 L2 helicopter. The plunger tube end is fitted with a metal end-fitting that presses against the internal surface of the cylinder due to its installation horizontally aboard the aircraft. Vibrations generated by helicopter operation are therefore causing such wear, which may result in a drop of internal pressure of the cylinder. This internal damage, if not corrected, could lead to functional failure of the cylinder, making the life raft inflation no longer possible.

Pending the development of a modification to the inflation cylinder, this AD requires identification of all affected cylinders and the removal from service of those that have accumulated 2,500 Flight Hours (FH) or more since installation or since overhaul.

Relevant Service Information

Eurocopter has issued Alert Service Bulletin No. 05.00.71, dated July 31, 2007. The actions described in the MCAI are intended to correct the same unsafe condition as that identified in the service information.

FAA's Determination and Requirements of This AD

This helicopter has been approved by the aviation authority of the Member States of the European Community, and is approved for operation in the United States. Pursuant to our bilateral agreement with this State of Design Authority, we have been notified of the unsafe condition described in the MCAI and the service information. We are issuing this AD because we evaluated all pertinent information and determined the unsafe condition exists and is likely to exist or develop on other helicopters of the same type design.

There are no helicopters of this type currently registered in the United States. However, this rule is necessary to ensure that the described unsafe condition is addressed if any of these products are placed on the U.S. Registry in the future.

Differences Between the AD and the MCAI or Service Information

We have reviewed the MCAI and related service information and, in general, agree with their substance. We have limited the “Applicability” section of our AD to those helicopters type certificated in the United States. We also changed “flight hours” to “hours time-in-service.” In making these small changes, we do not intend to differ substantively from the information provided in the MCAI and related service information. These differences are highlighted in the “Differences Between the FAA AD and the MCAI” section in the AD.

FAA's Determination of the Effective Date

Since there are currently no domestic operators of these helicopters, notice and opportunity for public comment before issuing this AD are unnecessary, and this amendment can be made effective in less than 30 days.

Comments Invited

This AD is a final rule that involves requirements affecting flight safety, and we did not precede it by notice and opportunity for public comment. We invite you to send any written relevant data, views, or arguments about this AD. Send your comments to an address listed under the ADDRESSES section. Include “Docket No. FAA-2008-0100; Directorate Identifier 2007-SW-41-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

There are no costs of compliance since there are no helicopters of this type design on the U.S. Registry.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-03-07 Eurocopter: Amendment 39-15356. Docket No. FAA-2008-0100; Directorate Identifier 2007-SW-41-AD.

Effective Date

(a) This airworthiness directive (AD) becomes effective February 20, 2008.

Other Affected ADs

(b) None.

Applicability

(c) This AD applies to Eurocopter Model AS 332 L2, with Life Raft, part number (P/N) 00051047 or P/N 00051048, that has a Life Raft Inflation Cylinder, P/N 41918001, installed, certificated in any category.

Reason

(d) The mandatory continuing airworthiness information (MCAI) states:

A borescope inspection during scheduled maintenance revealed wear on the internal skin of a Life Raft Inflation Cylinder, P/N 41918001, that had been installed on a Eurocopter AS 332 L2 helicopter. The plunger tube end is fitted with a metal end-fitting that presses against the internal surface of the cylinder due to its installation horizontally aboard the aircraft. Vibrations generated by helicopter operation are therefore causing such wear, which may result in a drop of internal pressure of the cylinder. This internal damage, if not corrected, could lead to functional failure of the cylinder, making the life raft inflation no longer possible.

Pending the development of a modification to the inflation cylinder, this AD requires identification of all affected cylinders and the removal from service of those that have accumulated 2,500 Flight Hours (FH) or more since installation or since overhaul.

Actions and Compliance

(e) Unless already done, do the following actions.

(1) Within the next 100 hours time-in-service (TIS) after the effective date of this AD, remove each life raft inflation cylinder, P/N 41918001, that has accumulated or exceeded 2,500 hours TIS since first installation or since last overhaul, whichever is later, in accordance with Appendix 1, paragraph 3.1., of Eurocopter Alert Service Bulletin No. 05.00.71, dated July 31, 2007 (ASB), and replace it with an airworthy cylinder in accordance with Appendix 1, paragraph 3.2 of the ASB.

(2) After the effective date of this AD, no person shall install a life raft inflation cylinder, P/N 41918001, on a helicopter, if that cylinder has accumulated or exceeded 2,500 hours TIS since first installation or since last overhaul, or if it is older than 3 years since manufacture and has never been overhauled.

Differences Between the FAA AD and the MCAI

(f) This AD does not apply to Model EC 225 LP helicopters as does the MCAI because that model helicopter is not type certificated in the United States. Additionally, we have changed “flight hours” to “hours time-in-service.” We also clarified the applicable paragraphs from the ASB in paragraph (e)(1) of this AD.

Subject

(g) Air Transport Association of America (ATA) Code 2564: Life Raft.

Other Information

(h) The following provisions also apply to this AD:

(1) Alternative Methods of Compliance (AMOCs): The Manager, Safety Management Group, FAA, has the authority to approve AMOCs for this AD, if requested using the procedures found in 14 CFR 39.19. Send information to ATTN: Uday Garadi, Aviation Safety Engineer, FAA, Rotorcraft Directorate, Regulations and Policy Group, Fort Worth, Texas 76193-0110, telephone (817) 222-5123, fax (817) 222-5961.

(2) Airworthy Product: Use only FAA-approved corrective actions. Corrective actions are considered FAA-approved if they are approved by the State of Design Authority (or their delegated agent) if the State of Design has an appropriate bilateral agreement with the United States. You are required to assure the product is airworthy before it is returned to service.

(3) Reporting Requirements: For any reporting requirement in this AD, under the provisions of the Paperwork Reduction Act, the Office of Management and Budget (OMB) has approved the information collection requirements and has assigned OMB Control Number 2120-0056.

Related Information

(i) Mandatory Continuing Airworthiness Information (MCAI) EASA Airworthiness Directive 2007-0244, dated September 4, 2007 contains related information.

Material Incorporated by Reference

(j) The Director of the Federal Register approved the incorporation by reference of Eurocopter Alert Service Bulletin No. 05.00.71, dated July 31, 2007, under 5 U.S.C. 552(a) and 1 CFR part 51.

(k) For service information identified in this AD, contact American Eurocopter Corporation, 2701 Forum Drive, Grand Prairie, Texas 75053-4005, telephone (972) 641-3460, fax (972) 641-3527.

(l) You may review copies of Eurocopter Alert Service Bulletin No. 05.00.71, dated July 31, 2007, at the FAA, Office of the Regional Counsel, Southwest Region, 2601 Meacham Blvd., Room 663, Fort Worth, Texas or at the National Archives and Records Administration (NARA). For information on the availability of this material at NARA, call (202) 741-6030, or go to: http://www.archives.gov/federal-register/cfr/ibr-locations.html.

Issued in Fort Worth, Texas on January 23, 2008.
Scott A. Horn,
Acting Manager, Rotorcraft Directorate, Aircraft Certification Service.

[FR Doc. E8-1701 Filed 2-4-08; 8:45 am]

BILLING CODE 4910-13-P